DEPARTMENT OF ENERGY

Federal Energy Regulatory Commission

[Docket No. RP03-369-001]

USG Pipeline Company; Notice of Errata Filing

May 30, 2003.

Take notice that on May 27, 2003, USG Pipeline Company (USGPC) tendered for filing as part of its FERC Gas Tariff, Substitute Second Revised Sheet No. 59, with an effective date of July 1, 2003.

USGPC states that the purpose of this filing is to correct an error on a tariff sheet submitted on May 1, 2003 to comply with the Commission's Order No. 587-R issued March 12, 2003, in Docket No. RM96-1-024.

USGPC states that complete copies of this filing are being provided to its sole customer, United States Gypsum Company, which receives service as certificated under part 157 of the Commission's regulations, and to interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 9, 2003.

Magalie R. Salas,
Secretary.

[FR Doc. 03-14238 Filed 6-5-03; 8:45 am]

BILLING CODE 6717-01-P